FEDERAL MEDIATION AND CONCILIATION SERVICE

Labor Management Cooperation Act of 1978 (Pub. L. 95-524)

AGENCY: Federal Mediation and Conciliation Service.

ACTION: Notice Regarding Labor Management Cooperation Program for Fiscal Year 2007.

SUMMARY: The Federal Mediation and Conciliation Service (FMCS) regrets to inform the public that there are no appropriated funds available for the Labor Management Cooperation Program for Fiscal Year 2007. However, there is limited amount of funds still remaining for FY2006. We will continue to accept grant proposals and will award grants subject to funds availability.

ADDRESSES: Michael J. Bartlett, Federal Register Liaison, Federal Mediation and Conciliation Service, 2100 K Street, NW., Washington, DC 20427, telephone number (202) 606-3737 or e-mail address at mbartlett@fmcs.gov.

FOR FURTHER INFORMATION CONTACT: Linda Stubbs, Grants Management Specialist, Federal Mediation and Conciliation Service, 2100 K Street, NW, Washington, DC 20427, telephone number (202) 606-8181 or e-mail address at lstubbs@fmcs.gov.

Dated: November 6, 2006.
Fran Leonard,
Director, Budget and Finance, Federal Mediation and Conciliation Service.

[FR Doc. E6-19082 Filed 11-9-06; 8:45 am]

BILLING CODE 6732-01-P